DEPARTMENT OF COMMERCE

Patent and Trademark Office

Privacy Act of 1974; System of Records

AGENCY: United States Patent and Trademark Office, Commerce.

ACTION: Notice of amendment of Privacy Act system of records.

SUMMARY: In accordance with the requirements of the Privacy Act of 1974, as amended, the United States Patent and Trademark Office (USPTO) is amending the system of records listed under “COMMERCE/PAT-TM-2 Complaints, Investigations and Disciplinary Proceedings Relating to Registered Patent Attorneys and Agents.” This action is being taken to update the Privacy Act notice. We invite the public to comment on the amendments noted in this publication.

DATES: Written comments must be received no later than December 16, 2005. The amendments will become effective as proposed on December 16, 2005, unless the USPTO receives comments that would result in a contrary determination.

ADDRESSES: You may submit written comments by any of the following methods:

• E-mail: Steve.Hanson@uspto.gov.

• Fax: (571) 273-4097, marked to the attention of Steve Hanson.

• Mail: Steve Hanson, Office of Enrollment and Discipline, United States Patent and Trademark Office, Mail Stop OED, P.O. Box 1450, Alexandria, VA 22313-1450.

All comments received will be available for public inspection at the USPTO Public Search Facility, Madison East Building—1st Floor, 600 Dulany Street, Alexandria, VA 22314.

FOR FURTHER INFORMATION CONTACT: Director, Office of Enrollment and Discipline, United States Patent and Trademark Office, Mail Stop OED, P.O. Box 1450, Alexandria, VA 22313-1450, (571) 272-4097.

SUPPLEMENTARY INFORMATION: The United States Patent and Trademark Office (USPTO) is giving notice of an amendment to a system of records that is subject to the Privacy Act of 1974. This system of records maintains information on complaints, investigations, and disciplinary proceedings involving attorneys and agents practicing, registered to practice, or excluded from practicing before the USPTO. The Privacy Act notice is being updated with current address information for the system location and system manager. The authority for maintenance of the system and rule references for the notification procedure and contesting record procedures are being updated to correspond to the current statutes and rules for those items as related to the USPTO. The descriptions of retrievability and safeguards have also been revised to indicate that the relevant electronic database for this system of records is password protected and accessible only by authorized staff members of the USPTO Office of Enrollment and Discipline.

The Privacy Act system of records notice, “COMMERCE/PAT-TM-2 Complaints, Investigations and Disciplinary Proceedings Relating to Registered Patent Attorneys and Agents,” was previously published at 65 FR 19868 (April 13, 2000). The amended system of records notice is published in its entirety below.

COMMERCE/PAT-TM-2

System name:

Complaints, Investigations and Disciplinary Proceedings Relating to Registered Patent Attorneys and Agents.

Security classification:

Unclassified.

System location:

Office of Enrollment and Discipline, United States Patent and Trademark Office, 600 Dulany Street, Alexandria, VA 22314; Office of the Solicitor, United States Patent and Trademark Office, 600 Dulany Street, Alexandria, VA 22314.

Categories of individuals covered by the system:

Attorneys and agents registered to practice before the United States Patent and Trademark Office (USPTO) in patent cases, attorneys practicing before the USPTO in trademark cases, attorneys appearing before the USPTO, and excluded or suspended attorneys and agents.

Categories of records in the system:

Complaints and information obtained during investigations and quasi-judicial disciplinary proceedings.

Authority for maintenance of the system:

35 U.S.C. 2.

Purpose(s):

To carry out the duties of the USPTO under 35 U.S.C. 2(b)(2)(D), in particular, the enrollment and recognition of individuals to practice as attorneys and agents before the USPTO in patent, trademark, and other non-patent matters; and to aid the enforcement of statutes and regulations regarding the conduct of attorneys and agents admitted to practice before the USPTO.

Routine uses of records maintained in the system, including categories of users and the purposes of such uses:

See Prefatory Statement of General Routine Uses Nos. 1-5, 8-10, and 13, as found at 46 FR 63501-63502 (December 31, 1981). Dissemination of information concerning the complaint, investigation, or disciplinary proceeding may be made to the complainant and to persons who can reasonably be expected to provide information needed in connection with the complaint, investigation, or disciplinary proceeding. Notice of filing of a disciplinary complaint may be publicly disclosed. Upon a final order reprimanding, suspending, or excluding an attorney or agent, the records in this system may be publicly disclosed.

Disclosure to consumer reporting agencies:

Not applicable.

Policies and practices for storing, retrieving, accessing, retaining, and disposing of records in the system:

Storage:

Paper records in file folders, microfilm, and machine-readable storage media.

Retrievability:

Filed alphabetically by name or registration number. Summary of records maintained in a searchable database available only to authorized staff members of the Office of Enrollment and Discipline.

Safeguards:

Records are located in lockable metal file cabinets or in metal file cabinets in secured rooms or secured premises with access limited to those whose official duties require access. Electronic files are stored in secured premises with access limited to those whose official duties require access. The electronic files are password protected.

Retention and disposal:

Records retention and disposal is in accordance with the unit's Record Control Schedule.

System manager(s) and address:

Director, Office of Enrollment and Discipline, United States Patent and Trademark Office, Mail Stop OED, P.O. Box 1450, Alexandria, VA 22313-1450.

Notification procedure:

Information may be obtained from the Director, Office of Enrollment and Discipline, United States Patent and Trademark Office, Mail Stop OED, P.O. Box 1450, Alexandria, VA 22313-1450. Requester should provide name, address, date of application, and record sought, pursuant to the inquiry provisions appearing in 37 CFR Part 102 Subpart B.

Record access procedures:

Requests from individuals should be addressed to the same address as stated in the notification section above.

Contesting record procedures:

The rules for access, for contesting contents, and for appealing initial determinations by the individual concerned appear in 37 CFR Part 102 Subpart B.

Record source categories:

Subject individuals, clients of same, registered attorneys and agents, witnesses in disciplinary proceedings, court opinions, and individuals furnishing information.

Exemptions claimed for the system:

Pursuant to 5 U.S.C. 552a(k)(2), all investigatory materials in the record which meet the criteria in 5 U.S.C. 552a(k)(2) are exempted from the notice, access, and contest requirements (under 5 U.S.C. 552a(c)(3), (d), (e)(1), (e)(4)(G), (H), and (I), and (f)) of the agency regulations because of the necessity to exempt this information and material in order to accomplish the law enforcement function of the agency, to prevent subjects of investigations from frustrating the investigatory process, to prevent the disclosure of investigative techniques, to fulfill commitments made to protect the confidentiality of sources, to maintain access to sources of information, and to avoid endangering these sources and law enforcement personnel.

Dated: November 9, 2005.
Susan K. Brown,
Records Officer, USPTO, Office of the Chief Information Officer, Office of Data Architecture and Services, Data Administration Division.

[FR Doc. 05-22717 Filed 11-15-05; 8:45 am]

BILLING CODE 3510-16-P